NATIONAL AERONAUTICS AND SPACE ADMINISTRATION

[Notice: 23-067]

NASA Advisory Council; STEM Engagement Committee; Meeting

AGENCY: National Aeronautics and Space Administration.

ACTION: Notice of meeting.

SUMMARY: In accordance with the Federal Advisory Committee Act, as amended, the National Aeronautics and Space Administration announces a meeting of the Science, Technology, Engineering and Mathematics (STEM) Engagement Committee of the NASA Advisory Council (NAC). This Committee reports to the NAC.

DATES: Thursday, July 20, 2023, 11 a.m.-4 p.m., eastern time.

ADDRESSES: Virtual meeting by dial-in teleconference and WebEx only.

FOR FURTHER INFORMATION CONTACT: Dr. Tara Strang, Designated Federal Officer, Office of STEM Engagement, NASA Headquarters, Washington, DC 20546, (216) 410-4335, or tara.m.strang@nasa.gov.

SUPPLEMENTARY INFORMATION: This meeting will be held virtually and will be available telephonically and by WebEx only. You must use a touch-tone phone to participate in this meeting. Any interested person may dial the toll free access number 415-527-5035, and then the access code: 276 229 10362 followed by the # sign. To join via WebEx, use link: https://nasaenterprise.webex.com/nasaenterprise/j.php?MTID=m64e32000c9422b0e003b26c5f9c0ea42.

The meeting number and access code is 276 229 10362 and the password is USaq299Amk@ (Password is case sensitive.)

Note: If dialing in, please “mute” your telephone. The agenda for the meeting will include the following:

—Opening Remarks by Chair

—Review NASA STEM Engagement Priorities

—NASA STEM Engagement Partnerships

—Presentation Topics:

○ Broadening Participation

○ Partnerships

—Formulation of New Findings and Recommendations

—Other Related Topics

It is imperative that the meeting be held on this date to accommodate the scheduling priorities of the key participants.

Patricia Rausch,
Advisory Committee Management Officer, National Aeronautics and Space Administration.

[FR Doc. 2023-13585 Filed 6-26-23; 8:45 am]

BILLING CODE 7510-13-P